DEPARTMENT OF THE INTERIOR

Fish and Wildlife Service

Receipt of an Application for an Incidental Take Permit for Construction of a Single-family Home in the Town of Venice, Sarasota County, Florida

AGENCY: Fish and Wildlife Service, Interior.

ACTION: Notice.

Mr. Jack Grimes (Applicant) requests an incidental take permit (ITP) pursuant to section 10(a)(1)(B) of the Endangered Species Act of 1973 (U.S.C. 1531 et seq.), as amended (Act). The Applicant anticipates taking about one-half acre of Florida scrub-jay (Aphelocoma coerulescens) habitat, incidental to land clearing in preparation for the construction of a single-family home and supporting infrastruture. Land clearing will take place within section 33, Township 39 South, Range 19 East, Venice, Sarasota County, Florida. The Applicant proposes to mitigate the taking of scrub-jays through contribution of $1,000 to the Florida Scrub-jay Conservation Fund.

Land clearing and infrastructure installation will destroy about one-half acre of habitat known to be occupied by one family of scrub-jays. A more detailed description of the mitigation and minimization measures to address the effects of the Project to the scrub-jay are outlined in the Applicant's Habitat Conservation Plan (HCP) and in the SUPPLEMENTARY INFORMATION section below. The Service has determined that the Applicant's proposal, including the proposed mitigation and minimization measures, will individually and cumulatively have a minor or negligible effect on the species covered in the HCP. Therefore, the ITP is a “low effect” project and would qualify as a categorical exclusion under the National Environmental Policy Act (NEPA), as provided by the Department of Interior Manual (516 DM2, Appendix 1 and 516 DM 6, Appendix 1).

The Service announces the availability of the HCP for the incidental take application. Copies of the HCP may be obtained by making a request to the Regional Office (see ADDRESSES). Requests must be in writing to be processed. This notice is provided pursuant to Section 10 of the Endangered Species Act and NEPA regulations (40 CFR 1506.6).

The Service specifically requests information, views, and opinions from the public via this Notice on the Federal action. Further, the Service specifically solicits information regarding the adequacy of the HCP as measured against the Service's Permit issuance criteria found in 50 CFR Parts 13 and 17.

If you wish to comment, you may submit comments by any one of several methods. Please reference permit number TE033098-0 in such comments. You may mail comments to the Service's Regional Office (see ADDRESSES). You may also comment via the internet to “david_dell@fws.gov”. Please submit comments over the internet as an ASCII file avoiding the use of special characters and any form of encryption. Please also include your name and return address in your internet message. If you do not receive a confirmation from the Service that we have received your internet message, contact us directly at either telephone number listed below (see FURTHER INFORMATION). Finally, you may hand deliver comments to either Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not; however, consider anonymous comments. We will make all submissions from organizations or businesses, and from individuals identifying themselves as representatives or officials of organizations or businesses, available for public inspection in their entirety.

DATES: Written comments on the ITP application and HCP should be sent to the Service's Regional Office (see ADDRESSES) and should be received on or before November 1, 2000.

ADDRESSES: Persons wishing to review the application, supporting documentation, and HCP may obtain a copy by writing the Service's Southeast Regional Office, Atlanta, Georgia. Documents will also be available for public inspection by appointment during normal business hours at the Regional Office, 1875 Century Boulevard, Suite 200, Atlanta, Georgia 30345 (Attn: Endangered Species Permits), or Field Supervisor, U.S. Fish and Wildlife Service, Post Office Box 2676, Vero Beach, Florida 32961-2676. Written data or comments concerning the application, or HCP should be submitted to the Regional Office. Please reference permit number TE033098-0 in requests for the documents discussed herein.

FOR FURTHER INFORMATION CONTACT: Mr. David Dell, Regional HCP Coordinator, (see ADDRESSES above), telephone: 404/679-7313, facsimile: 404/679-7081; or Mr. Mike Jennings, Fish and Wildlife Biologist, South Florida Ecosystem Office, Vero Beach, Florida (see ADDRESSES above), telephone: 561/562-3909.

SUPPLEMENTARY INFORMATION: The Florida scrub-jay (scrub-jay) is geographically isolated from other subspecies of scrub-jays found in Mexico and the western United States. The scrub-jay is found exclusively in peninsular Florida and is restricted to xeric uplands (predominately in oak-dominated scrub). Increasing urban and agricultural development have resulted in habitat loss and fragmentation which has adversely affected the distribution and numbers of scrub-jays. The total estimated population is between 7,000 and 11,000 individuals.

The decline in the number and distribution of scrub-jays in southwestern Florida has been exacerbated by tremendous urban growth in the past 50 years. Much of the historic commercial and residential development has occurred on the dry soils which previously supported scrub-jay habitat. Based on existing soils data, much of the historic and current scrub-jay habitat of coastal southwest Florida occurs proximal to the current shoreline and larger river basins. Much of this area of Florida was settled early because few wetlands restricted urban and agricultural development. Due to the effects of urban and agricultural development over the past 100 years, much of the remaining scrub-jay habitat is now relatively small and isolated. What remains is largely degraded due to the exclusion of fire which is needed to maintain xeric uplands in conditions suitable for scrub-jays.

Recent scrub-jay surveys in urban areas of southwest Florida documented that the subject residential parcel is part of the territory of one family of birds that is composed of seven individuals. A one-day survey undertaken by the Applicant supported these findings when two juvenile birds were documented within the subject residential parcel. The extent of the territory and its relative importance to the resident family of scrub-jays has not been determined. However, the residential parcel is composed of native xeric vegetation of sufficient quality to provide food resources and nesting and sheltering habitat for scrub-jays.

Scrub-jays using the subject residential lot and adjacent properties are part of a larger complex of scrub-jays located in urban settings in coastal areas of southern Sarasota County and western Charlotte County. Thirteen scrub-jay families are known to occupy urban areas within about three miles of the subject residential parcel. More than 100 scrub-jay families may still exist within the metapopulation of birds found in the matrix of urban and natural areas of coastal Sarasota and Charlotte counties. However, scrub-jays in urban areas are particularly vulnerable and typically do not successfully produce young that survive to adulthood. Persistent urban growth in this area will likely result in further reductions in the amount of suitable habitat for scrub-jays. Increasing urban pressures are also likely to result in the continued degradation of scrub-jay habitat as fire exclusion due to safety concerns slowly results in vegetative overgrowth. The continued survival of a large scrub-jay population in southwest Florida will be dependent on the protection and management of large preserves.

Construction of the Project's infrastructure and facilities will result in harm to scrub-jays, incidental to the carrying out of these otherwise lawful activities. Habitat alteration associated with the proposed residential construction will reduce the availability of feeding, nesting, and sheltering habitat of resident scrub-jays.

The Applicant proposes to minimize take of scrub-jays by reducing disturbance to occupied habitat. Approximately 25 percent (or 0.13 acres) of occupied habitat on the residential lot will not be disturbed during land clearing and construction activities. In addition, the Applicant proposes to remove up to four pine trees on the residential lot. Removal of these trees will eliminate perch sites for predatory birds and may reduce the risk that raptors will kill scrub-jays.

As earlier stated, the Service has determined that the HCP qualifies as a Categorically-Excluded, “low-effect” HCP as defined by Service's Habitat Conservation Planning Handbook (November 1996). Low-effect HCPs are those involving: (1) minor or negligible effects on federally listed and candidate species and their habitats, and (2) minor or negligible effects on other environmental values or resources. The Applicant's HCP qualifies for the following reasons:

1. Approval of the HCP would result in minor or negligible effects on the Florida scrub-jay. The Service does not anticipate significant direct or cumulative effects on this species resulting from the construction of the Project.

2. Approval of the HCP would not have adverse effect on known geographic, historic or cultural sites, or involve unique or unknown environmental risks.

3. Approval of the HCP would not result in any significant adverse effects on public health or safety.

4. The project does not require compliance with Executive Order 11988 (Floodplain Management), Executive Order 11990 (Protection of Wetlands), or the Fish and Wildlife Coordination Act, nor does it threaten to violate a Federal, State, local or tribal law or requirement imposed for the protection of the environment.

5. Approval of the HCP would not establish a precedent for future action or represent a decision in principle about future actions with potentially significant environmental effects.

The Service has therefore determined that approval of the HCP qualifies as a categorical exclusion under NEPA, as provided by the Department of the Interior Manual (516 DM 2, Appendix 1 and 516 DM 6, Appendix 1). No further NEPA determination will therefore be prepared.

The Service will evaluate the HCP and comments submitted thereon to determine whether the application meets the requirements of Section 10(a) of the Act. If it is determined that those requirements are met, an ITP will be issued for the incidental take of one family of Florida scrub-jay. The Service will also evaluate whether the issuance of a Section 10(a)(1)(B) ITP complies with Section 7 of the Act by conducting an intra-Service Section 7 consultation. The results of the consultation, in combination with the above findings, will be used in the final analysis to determine whether or not to issue the ITP.

Dated: September 25, 2000.
H. Dale Hall,
Acting Regional Director.

[FR Doc. 00-25145 Filed 9-29-00; 8:45 am]

BILLING CODE 4310-55-P